DEPARTMENT OF AGRICULTURE

Food and Nutrition Service

Agency Information Collection Activities: Proposed Collection; Comment Request; FNS-245, Negative Case Action Review Schedule; FNS-247, Statistical Summary of Sample Disposition; and FNS-248, Status of Sample Selection and Completion

AGENCY: Food and Nutrition Service, USDA.

ACTION: Notice.

SUMMARY: In accordance with the Paperwork Reduction Act of 1995, this notice invites the general public and other public agencies to comment on a proposed revision to the burden for information collection for the FNS-245, Negative Case Action Review Schedule and the FNS-248, Status of Sample Selection and Completion. The FNS-247, Statistical Summary of Sample Disposition, is being eliminated since the information on this form is available through the Food Stamp Quality Control System (FSQCS). The proposed collection is a revision of collection currently approved under OMB No. 0584-0034.

DATES: Written comments must be submitted on or before May 5, 2003.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Send comments and requests for copies of this information collection to: Dan Wilusz, Chief, Quality Control Branch, Program Accountability Division, Food and Nutrition Service, U.S. Department of Agriculture, 3101 Park Center Drive, Alexandria, VA 22302. You may FAX comments on this rule to (703) 305-0928. Copies of the FNS-245, FNS-247, and FNS-248 forms may be downloaded at http://www.fns.usda.gov/fsp/qc/default.htm. An electronic version of this notice may be downloaded at http://www.fns.usda.gov/fsp/rules/Regulations/default.htm. Comments may be submitted via the Internet at the same address.

All responses to this notice will be summarized and included in the request for OMB approval. All comments will also become a matter of public record.

FOR FURTHER INFORMATION CONTACT: Dan Wilusz, (703) 305-2474.

SUPPLEMENTARY INFORMATION: Title: Quality Control Negative Case Action Review Schedule; Statistical Summary of Sample Disposition; Status of Sample Selection and Completion.

OMB Number: 0584-0034.

Form Number: FNS-245, FNS-247, & FNS-248.

Expiration Date: 02/28/03.

Type of Request: Revision of a currently approved collection.

Abstract: The FNS-245, Negative Case Action Review Schedule, is designed to collect quality control (QC) data and serve as the data entry form for negative case action QC reviews in the Food Stamp Program. State agencies complete the FNS-245 for each negative case in their QC sample. The FNS-248, Status of Sample Selection and Completion, tracks a State's progress in sample selection and case completion on a monthly basis. We are eliminating the FNS-247, Statistical Summary of Sample Disposition report, which summarized the data obtained from a State's active and negative QC samples over the course of each annual reporting period. Data on this report is currently available through FSQCS so the report is no longer necessary. The total reporting and recordkeeping estimate for the eliminated report was one hour.

FNS-245

Affected Public: Individuals or households; State or local governments.

Estimated Number of Respondents: 53.

Number of Responses Per Respondent: 760.

Estimated Reporting Time per Response: 3.0236 Hours.

Estimated Reporting Annual Burden: 121,736.

Estimated Recordkeeping Time per Response: .0236 Hours.

Number of Recordkeepings Per Respondent: 760.

Estimated Time per Recordkeeping: 0.0236 Hours

Estimated Recordkeeping Annual Burden: 950 Hours.

Total Annual Reporting and Recordkeeping Burden: 122,686 Hours.

FNS-248

Affected Public: Individuals or households; State or local governments.

Estimated Number of Respondents: 53.

Number of Responses Per Respondent: 12.

Estimated Reporting Time per Response: 0.5236 Hours.

Estimated Reporting Annual Burden: 333 Hours.

Number of Recordkeepings Per Respondent: 12.

Estimated Time per Recordkeeping: 0.0236 Hours.

Estimated Recordkeeping Annual Burden: 15 Hours.

Total Annual Reporting and Recordkeeping Burden: 348 Hours.

Dated: February 27, 2003.
Roberto Salazar,
Administrator, Food and Nutrition Service.

[FR Doc. 03-5115 Filed 3-4-03; 8:45 am]

BILLING CODE 3410-30-P